DEPARTMENT OF DEFENSE

Department of the Army; Corps of Engineers

Intent To Prepare a General Reevaluation Report and Draft Supplemental Environmental Impact Statement for the Poplar Island Environmental Restoration Project, Talbot County, MD

AGENCY: Department of the Army, U.S. Army Corps of Engineers, DOD.

ACTION: Notice of intent.

SUMMARY: In accordance with the National Environmental Policy Act (NEPA), the Baltimore District, U.S. Army Corps of Engineers (Corps) is initiating a General Reevaluation Report (GRR) and Draft Supplemental Environmental Impact Statement (DSEIS) to evaluate the potential for additional expansion of the Poplar Island Environmental Restoration Project (PIERP), located in the Chesapeake Bay in Talbot County, Maryland. A DSEIS will be integrated into the GRR to document existing conditions, proposed project actions, and potential project effects and products. The Maryland Department of Transportation (MDOT), under the auspices of the Maryland Port Administration (MPA), is the non-Federal sponsor for this GRR and DSEIS.

FOR FURTHER INFORMATION CONTACT: Questions about the proposed action and DSEIS can be addressed to Ms. Gwen Meyer, Study Team Leader, Baltimore District, U.S. Army Corps of Engineers, ATTN: CENAB-PL-P, P.O. Box 1715, Baltimore, MD 21203-1715, telephone (410) 962-9502. E-mail address: gwendolyn.c.meyer@usace.army.mil.

SUPPLEMENTARY INFORMATION: 1. This GRR is being conducted under the existing PIERP authorization, section 537 of the Water Resources Development Act of 1996 (WRDA96). Certain proposed project modifications may be able to be implemented without further Congressional authorization, subject to section 902 of the Water Resources Development Act of 1986 (WRDA86), which limits cost increases in authorized projects to 20 percent. Other proposed project modifications may require Congressional authorization.

2. The group of islands known as Poplar Island are located in Talbot County, Maryland, in the upper-middle portion of the Chesapeake Bay, 34 nautical miles south-southeast of Baltimore Harbor, and one mile northwest of Tilghman Island. Poplar Island has been identified by the U.S. fish and Wildlife Service (USFWS), the Maryland Department of Natural Resources, National Marine Fisheries Service, and other resource agencies as a valuable nesting and nursery area for many species of wildlife, including bald eagles, osprey, heron, egrets, and least terns.

The PIERP was developed through cooperative efforts of the Corps, MPA, and many other Federal, State and local agencies, public and private organizations, and the general public. The PIERP reconstructed the island to its approximately 1847 footprint. The Maryland Environmental Service (MES) completed environmental and technical reconnaissance-level studies at Poplar Island. The PIERP was studied by the Corps under the authority of section 204 of WRDA 1992. Section 204 provides authority for the Corps to implement projects for the protection, restoration, and creation of aquatic and ecologically related habitats, including wetlands, in connection with the construction, operation, or maintenance of an authorized Federal navigation project. A feasibility report and Environmental Impact Statement (EIS) were completed in February 1996. The feasibility report was approved by the Assistant Secretary of the Army for Civil Works on September 4, 1996. The environmental restoration project, through the beneficial use of dredged material, was approved for construction under section 537 of WRDA96. See section 3, paragraph D, below for sources of this dredged material.

The PIERP containment dikes were constructed in three stages. Phase I included construction of the northern 640 acres contained by sand dikes, construction of rock reefs at the northern end of the project, construction of a rock breakwater between Poplar Island and Coaches Island and construction of geotextile tube breakwaters along the southwest side of Coaches Island as protection until Phase II. Phase I was completed in March 2000. Phase II included dike construction to contain the southern 500 acres and was completed in February 2002. Phase III construction raised the dikes in Cell No. 2, the northern upland cell, from an initial elevation of 10 feet mean lower low water (MLLW), to an elevation of 20 feet MLLW. Raising of the dikes in Cell Nos. 2 and 6 to the authorized elevation of 23 feet will be accomplished in future phases. To date, approximately 8 million cubic yards (mcy) of dredged material has been placed at Poplar Island in the Phase I area.

The current project design includes development of half of the land area as wetlands (570 acres) with the remaining portion as upland habitat (570 acres). Of the wetlands, 80 percent are being developed as low marsh and 20 percent as high marsh (456 acres low marsh, 114 acres high marsh). Small upland islands, ponds, and dendritic guts or channels will be created to increase habitat diversity within the marsh areas. It is expected that habitat diversity will be increased in the upland areas by the construction of small ponds and providing for areas of native forest, open shrub and native grasses.

The original project at Poplar Island was envisioned for construction during a 24-year period through the placement of up to 2 mcy of dredged material per year. The actual dredged material placement at Poplar Island has increased beyond planned levels due to the continued need to improve and to maintain the Chesapeake Bay approach channels to the Port of Baltimore and the restrictions of other placement options.

The proposed PIERP expansion would increase the dredged material capacity of the island and add further environmental and possibly recreational features at the facility.

3. The GRR is a decision document that will comply with NEPA through supplemental documentation to the existing Poplar Island EIS. An integrated Supplemental Environmental Impact Statement (SEIS) addressing raising the dikes above the authorized height of 23 feet and the proposed footprint expansion alternatives will be prepared. If during the study period it is determined that an EIS is not needed to comply with NEPA, an Environmental Assessment (EA) would be prepared instead. The Corps, Baltimore District proposes that the Poplar Island Expansion general reevaluation study further investigate and fully evaluate solutions to expand the placement capacity at Poplar Island by dike raising in the upland cells of the island and/or expanding the footprint with additional enhancements. The report will therefore consider the following:

a. Dike Raising—The study will evaluate raising the upland cell dikes (Cell Nos. 2 and 6) above the authorized height of 23 feet MLLW) at Poplar Island to an unspecified elevation to be determined during the study. This modification is not expected to change the beneficial use of the project. This alternative may increase placement capacity by 10 to 20 million cubic yards or more depending on the final elevation.

b. Expansion of the Existing Footprint—Expanding the footprint of the island to increase the placement capacity of the island as well as adding additional environmental benefits to the project will be studied. Proposed alignments will consider potential expansion along the northeastern side of the island and southern side of the island. All alignments would increase dredged material capacity and add environmental habitat. The northeastern alignment would also provide increased protection to Poplar Harbor and Jefferson Island.

The Talbot County government requested that Poplar Island expansion investigations include recreation and education opportunities at the island. Features of this type may include, but are not limited to recreational beach creation, hiking trails, educational facilities, bird watching, camping, and other passive recreation. The study will determine whether such features could be incorporated into the design of the island without compromising the restoration goals and intent of the project. Issues to be addressed include transportation to and from the island (and the impacts thereof) and providing facilities that allow for minimal human impact to environmentally sensitive areas. These issues will be coordinated extensively with interested agencies.

c. Environmental Enhancements—Poplar Harbor—To the east of the Poplar Island project is Poplar Island. This area is protected from the wave energy of the open Chesapeake Bay by the project to the west, Coaches Island to the south, and Jefferson Island to the north. One of the goals of the project is to facilitate the return of submerged aquatic vegetation (SAV) within the harbor by protecting the harbor and providing quiescent shallow water habitat. Efforts should be made to maximize this restoration potential through further protection of the northern side of the harbor. Expansion of the footprint could be designed to accomplish this goal, but if that is not considered feasible, other structural means (breakwaters, jetty, etc.) should be considered.

Jefferson Island—Jefferson Island was one of the remaining remnants of Poplar Island that existed prior to the restoration project. The project does not incorporate Jefferson Island into the footprint. Jefferson Island is toward the northern end of Poplar Harbor and acts as a barrier to protect the harbor from waves and currents from the north. Restoration of Poplar Island does not protect the east side of Jefferson Island from continued erosion. The continued erosion of the island not only threatens to remove important protection of the harbor, but it also adds sediment to the water column that could hinder the re-colonization of SAV in the harbor. For these reasons, protection of Jefferson Island may be warranted and should be considered in the GRR.

Terrapin habitat—The diamondback terrapin is an important species in the Chesapeake ecosystem. It requires remote, sandy beaches to lay eggs. Such habitat is becoming increasingly scare in the Chesapeake Bay due to human development and activities, sea-level rise and erosion. In the spring and summer of 2002, dozens of terrapins nested on the dikes at Poplar Island resulting in the tagging and release of over 500 hatched terrapins back into the Bay. This experience has proven that the island is well situated and isolated enough for terrapin habitat. As part of the GRR study, new features will be considered at the island to enhance terrapin habitat, such as creation of non-recreational sandy beaches.

d. Acceptance of Dredged Material from other Channels at Poplar Island—The original Poplar Island project is limited to accepting only material from certain outer Bay channel reaches (the Craighill Entrance Channel, Craighill Channel, Craighill Angle, Craighill Upper Range, Cutoff Angle, Brewerton Channel Eastern Extension, Tolchester Channel, and Swan Point Channel). Dredged material from the channels north of the Tolchester Channel (the southern approach channels to the Chesapeake and Delaware Canal) is currently placed at the Pooles Island open water placement site. State of Maryland law requires this site to close by 2010, thereby leaving those channels with insufficient capacity until a new facility is developed. Also to be considered is the acceptability of material from State and local dredging projects for placement at Poplar Island. It is unlikely that the quantities of material that may be generated from such projects would have much impact in the overall operation and capacity of the island. This GRR will investigate sediment quality and environmental considerations before recommending that the material from these channels be accepted at Poplar Island. While the established criteria of determining dredged material acceptability at Poplar Island will not change, a modification to include fill material from additional channels may require additional authorization and will require an amendment to the existing Project Cooperation Agreement with the non-Federal sponsor.

4. The decision to implement these actions will be based on an evaluation of the probable impact of the proposed activities on the public interest. That decision will reflect the national concern for both protection and utilization of important resources. The benefit, which reasonably may be expected to accrue from the proposal, will be balanced against its reasonably foreseeable costs. The Baltimore District is preparing a DSEIS, which will describe the impacts of the proposed projects on environmental and cultural resources in the study area and on the overall public interest. The DSEIS will be prepared in accordance with NEPA and will document all factors which may be relevant to the proposal, including the cumulative effects thereof. Among these factors are habitat restoration, channel and erosion control, improvements to water quality, storm water management, conservation, economics, energy needs, general environmental concerns, fish and wildlife values, wetlands, historic and cultural values, navigation, shoreline erosion and accretion, flood hazards, flood plain values, land use, recreation, safety, food production, and, in general, the needs and welfare of the people. The work will not be accomplished unless it is found to be in the public interest. If applicable, the DSEIS will also apply guidelines issued by the Environmental Protection Agency, under the authority of section 404(b)(1) of the Clean Water Act of 1977 (Pub. L. 95-217).

5. Public involvement activities for the study will include workshops, meetings, and other coordination with interested private individuals and organizations, as well as with concerned Federal, state, and local agencies, the Poplar Island Working Group, and the State's Dredged Material Management Plan Citizen's Advisory Group. Coordination letters and newsletters have been sent to appropriate agencies, organizations, and individuals on an extensive mailing list. Additional public information will be provided through print media, mailings, radio and television announcements.

6. In addition to the Corps, Talbot County, and the MPA, other participants that will be involved in the study and DSEIS process include the following: U.S. Environmental Protection Agency; USFWS; National Marine Fisheries Service; U.S. Forest Service; U.S. Geological Survey; Natural Resource Conservation Service and the Maryland Departments of Natural Resources and the Environment. The Baltimore District invites potentially affected Federal, state, and local agencies, and other organizations and entities to participate in this study.

7. The Poplar Island GRR and integrated DSEIS are tentatively scheduled for public review in November 2004.

Luz D. Ortiz,
Army Federal Register Liaison Officer.

[FR Doc. 03-14158 Filed 6-4-03; 8:45 am]

BILLING CODE 3710-41-M